DEPARTMENT OF LABOR

Employment and Training Administration

[TA-W-53,228]

Aurora Acquisition Corp., Formerly Clarksburg Casket Company, Hepzibah, West Virginia; Notice of Negative Determination on Reconsideration

By application of December 18, 2003, Teamsters Local Union No. 175 requested administrative reconsideration of the Department's negative determination regarding eligibility for workers and former workers of the subject firm to apply for Trade Adjustment Assistance (TAA). The denial notice was signed on November 17, 2003, and published in the Federal Register on December 29, 2003 (68 FR 74977).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Aurora Acquisition Corp., formerly Clarksburg Casket Company, Hepzibah, West Virginia was denied because the “contributed importantly” group eligibility requirement of section 222 of the Trade Act of 1974 was not met. The “contributed importantly” test is generally demonstrated through a survey of customers of the workers' firm. The survey revealed that the customer of the subject firm did not increase its purchases of imported wood caskets. The subject firm also did not increase its imports of wood caskets, nor did the company shift production to a foreign source during the relevant period.

In the request for reconsideration, the petitioner alleged that the subject company formed a strategic alliance with a Canadian firm to deliver caskets from Canada. This alliance still exists and Aurora Casket Company is still purchasing caskets from Canada. As a result, the petitioner concludes that the closure of the subject firm is directly attributed to increased imports of Canadian imports of wood caskets.

A company official was contacted in regard to these allegations. It was revealed that, although the subject firm has two unaffiliated vendors in Canada, caskets produced by these vendors do not have the same style numbers and are considered to be not like or directly competitive with those produced by the subject firm. Furthermore, the company official was asked to provide company data on imports of wood caskets during the relevant period. The data review revealed that the total purchases of caskets from Canada decreased significantly in 2003 compared to the prior year, and thus could not have contributed importantly to layoffs at the subject firm.

The petitioner further alleges that a newly acquired facility in Bristol, Tennessee did not have capability of producing Orthodox caskets, and the petitioner is not aware of any domestic supplier that could provide Aurora Casket Company with the Orthodox caskets. The union believes that Canadian vendors could be the only suppliers of Orthodox caskets to the subject firm.

The company official clarified that Aurora Casket Company, a company related to the subject firm by common ownership, bought Cortrium Hardwood Parts Co., Bristol, Tennessee for the purpose of shifting production of wood caskets from the subject firm, as well as increasing production of Orthodox caskets at Cortrium facility. He further stated that prior to and after the acquisition date, Cortrium's primary business in Bristol, Tennessee was making and selling these specialty Orthodox caskets. Consequently, production of caskets at Cortrium, Bristol, Tennessee increased substantially after the closure of the subject firm.

The official confirmed what had been established in the initial investigation, which was that the layoffs at Aurora Acquisition Corp., formerly Clarksburg Casket Company, Hepzibah, West Virginia are directly caused by a domestic shift in production.

Conclusion

After reconsideration, I affirm the original notice of negative determination of eligibility to apply for worker adjustment assistance for workers and former workers of Aurora Acquisition Corp., formerly Clarksburg Casket Company, Hepzibah, West Virginia.

Signed in Washington, DC, this 11th day of February, 2004.
Elliott S. Kushner,
Certifying Officer, Division of Trade Adjustment Assistance.

[FR Doc. 04-3929 Filed 2-23-04; 8:45 am]

BILLING CODE 4510-30-P